DEPARTMENT OF HEALTH AND HUMAN SERVICES

National Institutes of Health

National Institute of Allergy and Infectious Diseases Amended; Notice of Meeting

Notice is hereby given of a change in the meeting of the National Institute of Allergy and Infectious Diseases Special Emphasis Panel, March 8, 2017, 1:00 p.m. to March 8, 2017, 5:00 p.m., National Institutes of Health, 5601 Fishers Lane, Rockville, MD 20892 which was published in the Federal Register on February 14, 2017, 82 10581.

The meeting notice is amended to change the date from March 8, 2017 to April 4, 2017. This meeting is closed to the public.

Dated: March 6, 2017.
Natasha M. Copeland,
Program Analyst, Office of Federal Advisory Committee Policy.

[FR Doc. 2017-04705 Filed 3-9-17; 8:45 am]

BILLING CODE 4140-01-P